DEPARTMENT OF HEALTH AND HUMAN SERVICES

National Institutes of Health

Center for Scientific Review; Amended Notice of Meeting

Notice is hereby given of a change in the meeting of the Center for Scientific Review Special Emphasis Panel, December 10, 2020, 09:30 a.m. to December 10, 2020, 05:00 p.m., National Institutes of Health, Eunice Kennedy Shriver National Institute of, 6701B Rockledge Drive, Bethesda, MD 20892, which was published in the Federal Register on November 16, 2020, 85 FR 73063.

This notice is being amended to change the meeting start time from 10:00 a.m. to 9:30 a.m. The meeting is closed to the public.

Dated: November 24, 2020.
Miguelina Perez,
Program Analyst, Office of Federal Advisory Committee Policy.

[FR Doc. 2020-26370 Filed 11-27-20; 8:45 am]

BILLING CODE 4140-01-P